FEDERAL MARITIME COMMISSION

Notice of Agreements Filed

The Commission hereby gives notice of the filing of the following agreements under the Shipping Act of 1984. Interested parties may submit comments on the agreements to the Secretary, Federal Maritime Commission, Washington, DC 20573, within twelve days of the date this notice appears in the Federal Register. Copies of the agreements are available through the Commission's Web site (www.fmc.gov) or by contacting the Office of Agreements at (202)-523-5793 or tradeanalysis@fmc.gov.

Agreement No.: 012367-003.

Title: MSC/Maersk Line Trans-Atlantic Space Charter Agreement.

Parties: Maersk Line A/S and MSC Mediterranean Shipping Company S.A.

Filing Party: Wayne R. Rohde, Esq.; Cozen O'Conner; 1200 19th Street NW., Washington, DC 20036.

Synopsis: The amendment makes a minor revision to Article 5.1(a) with respect to the timing of a change in the amount of space to be chartered.

Agreement No.: 012440.

Title: WWL and NYK Space Charter Agreement.

Parties: Wallenius Wilhelmsen Logistics AS and Nippon Yusen Kaisha.

Filing Party: Kristen Chung, Corporate Counsel, NYK Line (North America) Inc.; 300 Lighting Way, 5th Floor; Secaucus, NJ 07094.

Synopsis: The Agreement authorizes the parties to charter space to/from one another for the carriage of vehicles, equipment or other cargo suitable for carriage on Ro/Ro vessels in the U.S. trades.

By Order of the Federal Maritime Commission.
Dated: November 14, 2016.
Rachel E. Dickon,
Assistant Secretary.

[FR Doc. 2016-27647 Filed 11-16-16; 8:45 am]

BILLING CODE P